DEPARTMENT OF COMMERCE

International Trade Administration

A-552-802

Frozen Warmwater Shrimp from the Socialist Republic of Vietnam: Initiation of Antidumping Duty New Shipper Review

AGENCY: Import Administration, International Trade Administration, Department of Commerce.

EFFECTIVE DATE: April 4, 2008.

SUMMARY: The Department of Commerce (“Department”) has determined that a request for a new shipper review (“NSR”) of the antidumping duty order on frozen warmwater shrimp (“shrimp”) from the Socialist Republic of Vietnam (“Vietnam”), received on February 27, 2008, meets the statutory and regulatory requirements for initiation. The period of review (“POR”) for this NSR is February 1, 2007 January 31, 2008.

FOR FURTHER INFORMATION CONTACT: Mark Manning or Howard Smith, AD/CVD Operations, Office 9, Import Administration, International Trade Administration, U.S. Department of Commerce, 14th Street and Constitution Avenue, N.W., Washington, D.C. 20230; telephone: 202-482-5253 and 202-482-5193, respectively.

SUPPLEMENTARY INFORMATION:

Background

The notice announcing the antidumping duty order on shrimp from Vietnam was published in the Federal Register on February 1, 2005. See Notice of Amended Final Determination of Sales at Less Than Fair Value and Antidumping Duty Order: Certain Frozen Warmwater Shrimp From the Socialist Republic of Vietnam, 70 FR 5152 (February 1, 2005).¹ On February 27, 2008, pursuant to section 751(a)(2)(B)(i) of the Tariff Act of 1930, as amended (“the Act”), and 19 CFR 351.214(c), the Department received a NSR request from BIM Seafood Joint Stock Company (“BIM Seafood”). BIM Seafood certified that it produces and exports the subject merchandise upon which the request was based.

¹ Therefore, a request for a NSR based on the annual anniversary month, February, was due to the Department by February 29, 2008. See 19 CFR 351.214(d)(1).

On February 29, 2008, the Department issued BIM Seafood a letter requesting that it resubmit the public version of its February 27, 2008, request. See the Department's February 29, 2008, letter to BIM Seafood. On March 4, 2008, BIM Seafood submitted a proper public version, pursuant to 19 CFR 351.304(c)(1).

Pursuant to section 751(a)(2)(B)(i)(I) of the Act and 19 CFR 351.214(b)(2)(i), BIM Seafood certified that it did not export shrimp to the United States during the period of investigation (“POI”). In addition, pursuant to section 751(a)(2)(B)(i)(II) of the Act and 19 CFR 351.214(b)(2)(iii)(A), BIM Seafood certified that, since the initiation of the investigation, it has never been affiliated with any Vietnamese exporter or producer who exported shrimp to the United States during the POI, including those not individually examined during the investigation. As required by 19 CFR 351.214(b)(2)(iii)(B), BIM Seafood also certified that its export activities were not controlled by the central government of Vietnam.

In addition to the certifications described above, pursuant to 19 CFR 351.214(b)(2)(iv), BIM Seafood submitted documentation establishing the following: (1) the date on which BIM Seafood first shipped shrimp for export to the United States and the date on which the shrimp were first entered, or withdrawn from warehouse, for consumption; (2) the volume of its first shipment; and (3) the date of its first sale to an unaffiliated customer in the United States.

The Department conducted United States Customs and Border Protection (“CBP”) database queries in an attempt to confirm that BIM Seafood's shipments of subject merchandise had entered the United States for consumption and that liquidation of such entries had been properly suspended for antidumping duties. The Department also examined whether the CBP data confirmed that such entries were made during the NSR POR. The information we examined was consistent with that provided by BIM Seafood.

Initiation of New Shipper Reviews

Pursuant to section 751(a)(2)(B) of the Act and 19 CFR 351.214(d)(1), the Department finds that BIM Seafood meets the threshold requirements for initiation of a NSR for the shipment of shrimp from Vietnam it produced and exported. See “Memorandum to File from Javier Barrientos, Senior Case Analyst, Certain Warmwater Shrimp from the Socialist Republic of Vietnam: Initiation of AD New Shipper Review for BIM Seafood Joint Stock Company,” (March 26, 2008).

The Department intends to issue the preliminary results of this NSR no later than 180 days from the date of initiation, and final results no later than 270 days from the date of initiation. See section 751(a)(2)(B)(iv) of the Act.

On August 17, 2006, the Pension Protection Act of 2006 (“H.R. 4”) was signed into law. Section 1632 of H.R. 4 temporarily suspends the authority of the Department to instruct CBP to collect a bond or other security in lieu of a cash deposit in new shipper reviews. Therefore, the posting of a bond under section 751(a)(B)(iii) of the Act in lieu of a cash deposit is not available in this case. Importers of shrimp from Vietnam manufactured and/or exported by BIM Seafood must continue to post cash deposits of estimated antidumping duties on each entry of subject merchandise at the current Vietnam-wide rate of 25.76 percent.

Interested parties requiring access to proprietary information in this NSR should submit applications for disclosure under administrative protective order in accordance with 19 CFR 351.305 and 351.306. This initiation and notice are published in accordance with section 751(a)(2)(B) of the Act and 19 CFR 351.214 and 351.221(c)(1)(i).

Dated: March 26, 2008.
Stephen J. Claeys,
Deputy Assistant Secretary for Import Administration.

[FR Doc. E8-7084 Filed 4-3-08; 8:45 am]

BILLING CODE 3510-DS-S